ENVIRONMENTAL PROTECTION AGENCY

[ER-FRL-6621-5]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated May 18, 2001 (97 FR 27647).

Draft EISs

ERP No. D-NPS-J65346-WY Rating LO, Devil's Tower National Monument General Management Plan, Implementation, Crook County, WY.

Summary: EPA had no objections to the preferred alternative.

ERP No. D-USA-G11040-TX Rating EC2, Programmatic EIS—Fort Sam Houston, Camp Bullis, and Canyon Lake Recreation Area Master Plan, Implementing Revisions to the Existing 1988 Land Use Plan, City of San Antonio, TX.

Summary: EPA expressed environmental concerns and requested additional information in the areas of alternatives analysis, wetland impacts, floodplains, wildlife habitat, prime farmland soils, and mitigation.

Final EISs

ERP No. F-AFS-J65336-MT, Lolo National Forest, Big Game Winter Range and Burned Area Management, Restoration, Prevention and Cooperation, Implementation, Missoula, Lake, Mineral, Sanders, Granite, Powell, Lewis and Clark, Flathead and Ravalli Counties, MT.

Summary: EPA expressed lack of objections. The preferred alternative includes adequate mitigation and controls for invasive weeds and forage improvement on 21 big game ranges and areas burned in year 2000 wildfires.

ERP No. F-AFS-L65358-ID, Starbucky Restoration Project, Implementation of Vegetative Treatment, Road Construction and Watershed Improvements, Nez Perce National Forest, Red River Ranger District, Idaho County, ID.

Summary: No formal comment letter was sent to the preparing agency.

ERP No. F-FRC-E08021-00, Florida Gas Transmission (FGT) Phase V Expansion Project, FGT Natural Gas Pipeline and Associated Above Ground Facilities, Construction and Operation, Approvals and Permit Issuance, several counties of FL, AL and MS.

Summary: EPA has remaining concerns with the proposed project concerning air quality, water quality, noise, cumulative impacts and safety. EPA requests that the prospective FERC ROD address these concerns.

ERP No. F-MMS-E02011-00, Eastern Planning Area Outer Continental Shelf Oil and Gas Lease Sale 181 (December 2001), Gulf of Mexico, Offshore Marine Environment and Coastal Counties/Parishes of LA, MI, AL and northwestern FL.

Summary: EPA continues to be concerned about cumulative impacts of oil and gas activity in the Gulf, although the revised lease sale area has been reduced by 25-30% of the original proposal.

ERP No. F-NRS-D28013-WV, Upper Tygart Valley River Watershed Plan, Water Supply Project, Approval and Funding, Randolph and Pocahontas Counties, WV.

Summary: EPA had no objection to the proposed action.

ERP No. FA-DOE-A22088-SC, Savannah River Site Salt Processing Alternatives, Evaluation for Separating High-Activity and Low-Activity Fractions of Liquid High-Level Radio-active Waste and Potential Environmental Impacts of Alternatives to the In-Tank-Precipitation Process (ITP), Aiken and Barnwell Counties, SC.

Summary: EPA expressed environmental concerns relating to the disposal of secondary waste streams.

Dated: August 28, 2001.
B. Katherine Biggs,
Associate Division Director, NEPA, Office of Federal Activities.

[FR Doc. 01-22064 Filed 8-30-01; 8:45 am]

BILLING CODE 6560-50-P